DEPARTMENT OF AGRICULTURE

Rural Utilities Service

South Mississippi Electric Power Association; Notice of Finding of No Significant Impact

AGENCY: Rural Utilities Service, USDA.

ACTION: Notice of finding of no significant impact.

SUMMARY: Notice is hereby given that the Rural Utilities Service (RUS) has made a finding of no significant impact (FONSI) with respect to a request from South Mississippi Electric Power Association for assistance to finance the construction of a 255 megawatt electric generating station in Jefferson Davis County, Mississippi.

FOR FURTHER INFORMATION CONTACT: Bob Quigel, Environmental Protection Specialist, Engineering and Environmental Staff, RUS, Stop 1571, 1400 Independence Avenue, SW, Washington, DC 20250-1571, telephone (202) 720-0468, fax (202) 720-0820, e-mail at bquigel@rus.usda.gov.

SUPPLEMENTARY INFORMATION: No comments were received by RUS via e-mail or telephone during the 30-day comment period which closed on November 30, 2001. However, mail service to the U.S. Department of Agriculture has been disrupted during the comment period due to screening of mail for potential anthrax contamination. Any person that sent written comments on the environmental assessment through the U.S. Postal Service to RUS during the comment period should contact RUS at the telephone number listed above within 5 working days of this notice to ensure their comments are considered prior to project construction. Should RUS conclude that any written comments that may have been submitted during the official comment period warrant further review and would cause reconsideration of RUS' decision, the public would be so notified. Otherwise, this FONSI notice will serve as the final public notice of this project.

The project is to be named the Silver Creek Generating Station. South Mississippi Electric Power Association proposes to construct the generating station. The station site is located approximately 6 miles east of Silver Creek in Jefferson Davis County, Mississippi. The plant and associated facilities will include 3 GE 7EAs, a 115 kV switchyard and substation, approximately 6 miles of 115 kV transmission line, a natural gas metering station, and approximately 0.5 miles of natural gas pipeline.

Copies of the FONSI are available for review at, or can be obtained from, RUS at the address provided herein or from Mr. Joey Ward, South Mississippi Electric Power Association, 7037 U.S. Highway 49, North, Hattiesburg, Mississippi 39404-5849, telephone (601) 268-2083. Mr. Ward's e-mail address is jward@smepa.com.

Alfred Rodgers,
Acting Assistant Administrator, Electric Program.

[FR Doc. 01-30743 Filed 12-11-01; 8:45 am]

BILLING CODE 3410-15-P